DEPARTMENT OF ENERGY

10 CFR Parts 433 and 435

[Docket No. EERE-2010-BT-STD-0031]

RIN 1904-AB96

Fossil Fuel-Generated Energy Consumption Reduction for New Federal Buildings and Major Renovations of Federal Buildings; Correction

AGENCY: Office of Energy Efficiency and Renewable Energy, Department of Energy.

ACTION: Proposed rule; correction.

SUMMARY: This document corrects the number assigned to the Environmental Assessment (EA) referenced in the October 15, 2010, notice of proposed rulemaking (NOPR) regarding the fossil fuel-generated energy consumption requirements for new Federal buildings and Federal buildings undergoing major renovations. The correction is necessary because the proposed rulemaking referenced the EA number as (DOE-EA-1463). The correct EA number in the NOPR should be (DOE/EA-1778).

FOR FURTHER INFORMATION CONTACT: Margo Appel, U.S. Department of Energy, Office of Energy Efficiency and Renewable Energy, Building Technologies Program, EE-2J, 1000 Independence Avenue, SW., Washington, DC 20585-0121, (202) 586-9495, e-mail: margo.appel@hq.doe.gov, or Ami Grace-Tardy, U.S. Department of Energy, Office of the General Counsel, Forrestal Building, GC-71, 1000 Independence Avenue, SW., Washington, DC 20585, (202) 586-5709, e-mail: Ami.Grace-Tardy@hq.doe.gov.

SUPPLEMENTARY INFORMATION: The U.S. Department of Energy (DOE) published a notice of proposed rulemaking in the Federal Register on October 15, 2010 (75 FR 63404), announcing a public meeting and seeking comments regarding the fossil fuel-generated energy consumption requirements for new Federal buildings and major renovations of Federal buildings.

DOE prepared a draft EA for this rulemaking. The draft EA has been added to the docket for this rulemaking. The NOPR incorrectly referenced the EA Number as (DOE-EA-1463) on page 63413, third column, fourth paragraph, third line. The correct EA number in the NOPR should be (DOE/EA-1778).

For additional information regarding the NOPR and the public meeting, including detailed instructions for the submission of comments and access to the docket to read background documents or comments received, please refer to the October 15, 2010, notice (75 FR 63404).

Issued in Washington, DC, on October 20, 2010.
Joseph Hagerman,
Acting Program Manager, Building Technologies Program, Energy Efficiency and Renewable Energy.

[FR Doc. 2010-27152 Filed 10-26-10; 8:45 am]

BILLING CODE 6450-01-P